DEPARTMENT OF TRANSPORTATION

Maritime Administration

[Docket Number: MARAD-2002-11910]

Requested Administrative Waiver of the Coastwise Trade Laws

AGENCY: Maritime Administration, Department of Transportation.

ACTION: Invitation for public comments on a requested administrative waiver of the Coastwise Trade Laws for the vessel HOLY MOSES.

SUMMARY: As authorized by Public Law 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR part 388 (65 FR 6905; February 11, 2000) that the issuance of the waiver will have an unduly adverse effect on a U.S.-vessel builder or a business that uses U.S.-flag vessels, a waiver will not be granted.

DATES: Submit comments on or before April 29, 2002.

ADDRESSES: Comments should refer to docket number MARAD-2002-11910. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, S.W., Washington, DC 20590. Telephone 202-366-2307.

SUPPLEMENTARY INFORMATION: Title V of Public Law 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR Part 388.

Vessel Proposed for Waiver of the U.S.-build Requirement

(1) Name of vessel and owner for which waiver is requested. Name of vessel: HOLY MOSES. Owner: David L. Williams Trust.

(2) Size, capacity and tonnage of vessel. According to the applicant: “L/O; 50′3″; Registered Length, LWL/45′8″; Beam: 15′6″; Draft: 4′6″; Tonnage: Net/40; Gross/50″.

(3) Intended use for vessel, including geographic region of intended operation and trade. According to the applicant: “The vessel will be used for . . . 1 to 10 day charters, with a maximum of six [6], charter passengers on one day trips, and 1 to 3 charter passengers on overnight charters. The vessel operates in the waters of Puget Sound, USA . . . and Southern Alaska, USA.”

(4) Date and Place of construction and (if applicable) rebuilding. Date of construction: 1981. Place of construction: Kaohsiung, Taiwan, ROC.

(5) A statement on the impact this waiver will have on other commercial passenger vessel operators. According to the applicant: “The operation of HOLY MOSES Charters . . . will have “0” impact on other charter operations in the San Juan Islands area of Puget Sound because:

(a) Charter guests for the H/M operation have been and will be derived from the charter customers of LinnLine Marine, Inc. “which has been in the sailing charter business in Hawaii since 1977. These customers have chartered with us for many years and we have become good friends and therefore compatible for extended charters.

(b) Our customers book with us because they wish to cruise with us and are not nor would be available to other operators in the Northwest area.

(c) H/M charter activity is limited to the summer months of June thru September; and due to sleeping arrangements aboard the vessel, is limited to a max of 3 charter guests for overnight trips, which consists of 5 to 10 days in length and we limit these to 4 to 6 charters per season. These “guests”. . . are “friends”. . . since they do contribute to the cost of the cruise are considered in the eyes of maritime law, “paying guests” and I, by accepting said contributions, I am . . . “chartering”.

There are a number of large charter co.'s operating in the San Juan Islands area . . . The larger companies have fleets of vessels and offer both crewed and “bare boat” type's of charters. Again, there will be no impact on their operations as stated above, 100% of our guests are from my own past charters customers and not drawn from their area.

(6) A statement on the impact this waiver will have on U.S. shipyards. According to the applicant: “a. There will be no negative impact of US ship yards as the cost of producing a vessel of the class quality and equipped as HOLY MOSES is, would be over three times the amount that I have invested in the vessel. There is no possible way that I could or would be able to afford to buy one. b. The positive impact on US ship yards will be that I will be able to keep spending money with them to have the vessel hauled and . . . maintained at least once a year.”

Dated: March 22, 2002.
By Order of the Maritime Administrator.
Joel C. Richard,
Secretary, Maritime Administration.

[FR Doc. 02-7476 Filed 3-27-02; 8:45 am]

BILLING CODE 4910-81-P